DEPARTMENT OF HOMELAND SECURITY

Federal Emergency Management Agency

[Docket ID FEMA-2017-0002; Internal Agency Docket No. FEMA-B-1740]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: September 27, 2017.
Roy E. Wright,
Deputy Associate Administrator for Insurance and Mitigation, Department of Homeland Security, Federal Emergency Management Agency.

State and county | Location and case No. | Chief executive officer of community | Community map repository | Online location of letter of map revision | Date of modification | Community No.
Colorado:
Eagle | Town of Eagle (17-08-0450P) | Mr. John Schneiger, Manager, Town of Eagle, P.O. Box 609, Eagle, CO 81631 | Town Hall, 200 Broadway Street, Eagle, CO 81631 | http://www.msc.fema.gov/lomc | Nov. 3, 2017 | 080238
Eagle | Unincorporated areas of Eagle County (17-08-0450P) | The Honorable Jillian H. Ryan, Chair, Eagle County Board of Commissioners, P.O. Box 850, Eagle, CO 81631 | Eagle County Engineering Department, 500 Broadway Street, Eagle, CO 81631 | http://www.msc.fema.gov/lomc | Nov. 3, 2017 | 080238
Jefferson | City of Arvada (17-08-0149P) | The Honorable Marc Williams, Mayor, City of Arvada, P.O. Box 8101, Arvada, CO 80001 | Engineering Department, 8101 Ralston Road, Arvada, CO 80001 | http://www.msc.fema.gov/lomc | Oct. 27, 2017 | 085072
Jefferson | Unincorporated areas of Jefferson County (17-08-0149P) | The Honorable Libby Szabo, Chair, Jefferson County Board of Commissioners, 100 Jefferson County Parkway, Golden, CO 80419 | Jefferson County Planning and Zoning Department, 100 Jefferson County Parkway, Golden, CO 80419 | http://www.msc.fema.gov/lomc | Oct. 27, 2017 | 080087
Jefferson | Unincorporated areas of Jefferson County (17-08-0687P) | The Honorable Libby Szabo, Chair, Jefferson County Board of Commissioners, 100 Jefferson County Parkway, Golden, CO 80419 | Jefferson County Planning and Zoning Department, 100 Jefferson County Parkway, Golden, CO 80419 | http://www.msc.fema.gov/lomc | Nov. 3, 2017 | 080087
Larimer | City of Fort Collins (17-08-0129P) | The Honorable Wade Troxel, Mayor, City of Fort Collins, 300 Laporte Avenue, Fort Collins, CO 80522 | Stormwater Utilities Department, 700 West Street, Fort Collins, CO 80522 | http://www.msc.fema.gov/lomc | Oct. 26, 2017 | 080102
Larimer | Unincorporated areas of Larimer County (17-08-0129P) | The Honorable Lew Gaiter III, Chairman, Larimer County Board of Commissioners, 200 West Oak Street, 2nd Floor, Fort Collins, CO 80522 | Larimer County Engineering Department, 200 West Oak Street, 3rd Floor, Fort Collins, CO 80522 | http://www.msc.fema.gov/lomc | Oct. 26, 2017 | 080101
Florida:
Collier | Unincorporated areas of Collier County (17-04-4308P) | The Honorable Penny Taylor, Chair, Collier County Board of Commissioners, 3299 Tamiami Trail East, Suite 303, Naples, FL 34112 | Collier County Engineering Services Section Growth Management Department, 3301 Tamiami Trail East, Building F, 1st Floor, Naples, FL 34112 | http://www.msc.fema.gov/lomc | Oct. 20, 2017 | 120067
Collier | Unincorporated areas of Collier County (17-04-4803P) | The Honorable Penny Taylor, Chair, Collier County Board of Commissioners, 3299 Tamiami Trail East, Suite 303, Naples, FL 34112 | Collier County Engineering Services Section Growth Management Department, 3301 Tamiami Trail East Building F, 1st Floor, Naples, FL 34112 | http://www.msc.fema.gov/lomc | Oct. 31, 2017 | 120067
Flagler | City of Palm Coast (17-04-2665P) | The Honorable Melissa Holland, Mayor, City of Palm Coast, 160 Lake Avenue, Palm Coast, FL 32164 | City Hall, 160 Lake Avenue, Palm Coast, FL 32164 | http://www.msc.fema.gov/lomc | Nov. 2, 2017 | 120684
Lee | City of Sanibel (17-04-1950P) | The Honorable Kevin Ruane, Mayor, City of Sanibel, 800 Dunlop Road, Sanibel, FL 33957 | Planning and Code Enforcement Department, 800 Dunlop Road, Sanibel, FL 33957 | http://www.msc.fema.gov/lomc | Oct. 18. 2017 | 120402
Monroe | City of Marathon (17-04-3767P) | The Honorable Dan Zieg, Mayor, City of Marathon, 9805 Overseas Highway, Marathon, FL 33050 | Planning Department, 9805 Overseas Highway, Marathon, FL 33050 | http://www.msc.fema.gov/lomc | Oct. 6. 2017 | 120681
Maryland:
Worcester | Town of Ocean City (17-03-0551P) | Mr. Douglas R. Miller, Manager, Town of Ocean City, 301 Baltimore Avenue, Ocean City, MD 21842 | Department of Planning and Community Development, 301 Baltimore Avenue, Ocean City, MD 21842 | http://www.msc.fema.gov/lomc | Nov. 3, 2017 | 245207
New York:
Rockland | Town of Ramapo (17-02-0104P) | The Honorable Christopher P. St. Lawrence, Supervisor, Town of Ramapo, 237 State Route 59, Suffern, NY 10901 | Town Hall, 237 State Route 59, Suffern, NY 10901 | http://www.msc.fema.gov/lomc | Dec. 7, 2017 | 365340
Rockland | Village of Spring Valley (17-02-0104P) | The Honorable Demeza Delhomme, Mayor, Village of Spring Valley, 200 North Main Street, Spring Valley, NY 10977 | Village Hall, 200 North Main Street, Spring Valley, NY 10977 | http://www.msc.fema.gov/lomc | Dec. 7, 2017 | 365344
North Carolina:
Person | Unincorporated areas of Person County (17-04-0451P) | The Honorable Tracey L. Kendrick, Chairman, Person County Board of Commissioners, 717 Country Club Road, Roxboro, NC 27574 | Person County Planning and Zoning Department, 325 South Morgan Street, Roxboro, NC 27573 | http://www.msc.fema.gov/lomc | Sept. 28, 2017 | 370346
Watauga | Town of Boone (17-04-3175P) | The Honorable Rennie Brantz, Mayor, Town of Boone 567 West King Street, Boone, NC 28607 | Planning and Inspections Department, 680 West King Street Boone, NC 28607 | http://www.msc.fema.gov/lomc | Oct. 26, 2017 | 370253
Pennsylvania:
Clinton | Borough of Flemington (16-03-2633P) | The Honorable Gary L. Durkin, Mayor, Borough of Flemington, 126 High Street, Flemington, PA 17745 | Borough Hall, 126 High Street, Flemington, PA 17745 | http://www.msc.fema.gov/lomc | Oct. 13, 2017 | 420326
Clinton | Township of Bald Eagle (16-03-2633P) | The Honorable James H. Bechdel Sr., Chairman, Township of Bald Eagle Board of Supervisors, 12 Fairpoint Road, Mill Hall, PA 17751 | Township Hall, 12 Fairpoint Road, Mill Hall, PA 17751 | http://www.msc.fema.gov/lomc | Oct. 13, 2017 | 420319
Clinton | Township of Castanea (16-03-2633P) | The Honorable Ronald L. Welch Sr., Chairman, Township of Castanea Board of Supervisors, 347 Nittany Road, Lock Haven, PA 17745 | Township Hall, 347 Nittany Road, Lock Haven, PA 17745 | http://www.msc.fema.gov/lomc | Oct. 13, 2017 | 420322
Clinton | Township of North Fayette (16-03-2633P) | The Honorable Peter Spangler, Chairman, Township of Allison Board of Supervisors, P.O. Box 27, Lock Haven, PA 17745 | Township Hall, 1106 Glen Road, Lock Haven, PA 17745 | http://www.msc.fema.gov/lomc | Oct. 13, 2017 | 421534
Texas:
Bell | City of Belton (17-06-0764P) | The Honorable Marion Grayson, Mayor, City of Belton, P.O. Box 120, Belton, TX 76513 | City Hall, 333 Water Street, Belton, TX 76513 | http://www.msc.fema.gov/lomc | Oct. 27, 2017 | 480028
Brazos | Unincorporated areas of Brazos County (17-06-1259P) | The Honorable Duane Peters, Brazos County Judge, 200 South Texas Avenue, Suite 332, Bryan, TX 77803 | Brazos County Road and Bridge Department, 2617 West Highway 21, Bryan, TX 77803 | http://www.msc.fema.gov/lomc | Nov. 7, 2017 | 481195
El Paso | City of El Paso (17-06-1734P) | The Honorable Oscar Leeser, Mayor, City of El Paso, 300 North Campbell Street, El Paso, TX 79901 | City Hall, 801 Texas Avenue, El Paso, TX 79901 | http://www.msc.fema.gov/lomc | Oct. 31, 2017 | 480214
Gregg | City of Longview (17-06-0856P) | The Honorable Andy Mack, Mayor, City of Longview, P.O. Box 1952, Longview, TX 75605 | City Hall, 933 Mobile Drive, Longview, TX 75604 | http://www.msc.fema.gov/lomc | Oct. 17, 2017 | 480264
Rockwall | City of Rockwall (17-06-2407P) | The Honorable Jim Pruitt, Mayor, City of Rockwall, 385 South Goliad Street, Rockwall, TX 75087 | Public Works Department, 385 South Goliad Street, Rockwall, TX 75087 | http://www.msc.fema.gov/lomc | Oct. 23, 2017 | 480547
Virginia: Prince William | Unincorporated areas of Prince William County (17-03-0682P) | Mr. Christopher E. Martino, Prince William County Executive, 1 County Complex Court, Woodbridge, VA 22192 | Prince William County Department of Public Works, 5 County Complex Court, Woodbridge, VA 22192 | http://www.msc.fema.gov/lomc | Oct. 19, 2017 | 510119

[FR Doc. 2017-22020 Filed 10-11-17; 8:45 am]

BILLING CODE 9110-12-P